DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project, call the HRSA Reports Clearance Officer on (301) 443-1129.

Comments are invited on: (a) Whether the proposed collection of information is necessary for the proper performance of the functions of the grantee, including whether the information shall have practical utility; (b) ways to enhance the quality, utility, and clarity of the information to be collected; and (c) ways to minimize the burden of the collection of information on respondents, including through the use of automated collection techniques or other forms of information technology.

Proposed Project: Minority AIDS Initiative (MAI) Report Form: New

The purpose of the Ryan White Comprehensive AIDS Resources Emergency (CARE) Act is to provide emergency assistance to localities that are disproportionately affected by the Human Immunodeficiency Virus (HIV) epidemic, and to make financial assistance available for the development, organization, coordination, and operation of more effective and cost-efficient systems for the delivery of essential services to persons with HIV disease. The CARE Act also provides grants to states, eligible metropolitan areas, community-based programs, and early intervention programs for the delivery of service to individuals and families with HIV infection.

The HRSA's HIV/AIDS Bureau (HAB) administers Titles I, II, III, and IV of the Ryan White CARE Act of 1990, as amended by the Ryan White CARE Act Amendments of 1996 and 2000 (codified under Title XXVI of the Public Health Services Act).

The Minority AIDS Initiative (MAI) was established in fiscal year 1999 to specifically address the needs of communities of color disproportionately affected by HIV/AIDS. Funded through a congressional appropriation and the Department of Health and Human Services (HHS) Secretary's MAI Fund, this Initiative supplements Ryan White CARE Act funding to allow communities to expand local service capacity primarily through minority-serving community-based organizations, improve service delivery, and support the development of new and innovative programs designed to reduce HIV/AIDS-related health disparities. In addition to HRSA, the Centers for Disease Control and Prevention (CDC), the National Institutes of Health (NIH), the Office of the HHS Secretary, the Indian Health Service (IHS), and the Substance Abuse and Mental Health Services Administration (SAMHSA) are recipients of MAI funds.

The MAI Report Form is designed to collect performance data from MAI grantees, and is divided into six sections specific to Titles I-IV and Division of Training and Technical Assistance (DTTA) grantees, as follows: (1) Planned MAI Activities for the Grant Year (Title I, Title II, Title III and Title IV grantees); (2) Six-Month Progress Report (Title III and Title IV grantees); (3) End of Year Report (Title I, Title II, Title III and Title IV grantees); (4) Outcomes Planned and Achieved by MAI Grantees (Title I, Title II, Title III and Title IV grantees); (5) Planned MAI Activities of the Division of Training and Technical Assistance (DTTA) Capacity Development Grantees for the Grant Year (DTTA grantees only); and (6) End of Grant Year MAI Activities of DTTA Capacity Development Grantees (DTTA grantees only).

The MAI Report Form will be available for all grantees to submit their data via a HRSA Web site or by hard copy paper form. Grantees will complete relevant sections of the MAI Report Form and submit any hard copy forms to the HRSA Call Center. The MAI Report Form will be designed to include check box responses, numeric responses and open-ended questions. All grantees receiving MAI funds from HAB will be required to identify organizations funded to provide services with MAI dollars, using the specified MAI Report Form.

The estimated annual burden is as follows:

Form | Estimated number of respondents | Responses per respondent | Hours per response | Total burden hours
MAI Report Grantee Form | 365 | 2 | 18 | 13,140

Send comments to Susan G. Queen, Ph.D., HRSA Reports Clearance Officer, Room 14-45, Parklawn Building, 5600 Fishers Lane, Rockville, MD 20857. Written comments should be received within 60 days of this notice.

Dated: September 3, 2004.
Tina M. Cheatham,
Director, Division of Policy Review and Coordination.

[FR Doc. 04-20501 Filed 9-9-04; 8:45 am]

BILLING CODE 4165-15-P